DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Workgroup on the National Health Information Infrastructure (NHII).

Time and Date: 8 a.m.-4:15 p.m.; July 23, 2004.

Place: Washington Convention Center, Room 146A, B, & C, 801 Mount Vernon Place, NW., Washington, DC 20002.

Status: Open.

Purpose: The Workgroup will hear testimony from invited experts on National Health Information Infrastructure (NHII) opportunities, including recommendations, in the key areas: personal health, governance, incentives, standards and architecture, confidentiality, ethics, privacy, access, measuring progress, population health, and clinical research. The morning session will conclude with the closing remarks from the HHS NHII conference “2004 Cornerstones for Electronic Healthcare.” The afternoon session will consist of discussion between the Workgroup and the speakers.

Contact Person for More Information: Substantive program information as well as summaries of meetings and a roster of committee members may be obtained from Mary Jo Deering Ph.D., Lead Staff Person for the NCVHS Workgroup on the National Health Information Infrastructure, NCI Center for Strategic Dissemination and NCI Center for Bioinformatics, National Cancer Institute, National Institutes of Health, 6116 Executive Boulevard—Room 4087, Rockville, MD, 20852, telephone (301) 594-8193, or Marjorie S. Greenberg, Executive Secretary, NCVHS, National Center for Health Statistics, Centers for Disease Control and Prevention, 3311 Toledo Road, Room 2402, Hyattsville, Maryland 20782, telephone (301) 458-4245. Information also is available on the NCVHS home age of the HHS Web site: http://www.ncvhs.hhs.gov/, where an agenda for the meeting will be posted when available.

Should you require reasonable accommodation, please contact the CDC Office of Equal Employment Opportunity on (301) 458-4EEO (4336) as soon as possible.

Dated: July 7, 2004.
James Scanlon,
Acting Deputy Assistant Secretary for Science and Data Policy, Office of the Assistant Secretary for Planning and Evaluation.

[FR Doc. 04-16372 Filed 7-16-04; 8:45 am]

BILLING CODE 4151-04-M